DEPARTMENT OF JUSTICE

Notice of Lodging of Consent Decree Under the Safe Drinking Water Act

Pursuant to 28 CFR 50.7, notice is hereby given that on March 10, 2010, a proposed Consent Decree in United States v. Evenhouse Enterprises, Inc., d/b/a Skyview Subdivision and Windmill Estates Subdivision, Civil Action No. 10-CV-2056, was lodged with the United States District Court for the Central District of Illinois.

In a civil action filed simultaneously with the Consent Decree, the United States seeks injunctive relief and a civil penalty against Evenhouse Enterprises, Inc. (“Evenhouse”), defendant, pursuant to Section 1414(b) of the Safe Drinking Water Act (“SDWA”), 42 U.S.C. 300G-3(b), based upon Evenhouse's alleged violations of the SDWA and regulations thereunder at two separate community water systems serving the Skyview subdivision mobile home park (“Skyview”) and the Windmill estate subdivision mobile home park (“Windmill”), both of which are located in Kankakee County, Illinois. Evenhouse allegedly failed to comply with the monitoring, reporting, public notification and record-keeping requirements of the National Primary Drinking Water Regulations (“NPDWR”) codified at 40 CFR Part 141.

Under the proposed settlement, among other things, Evenhouse will be required to take samples from its public water system to monitor for various contaminants in accordance with the NPDWR and provide the results to the Environmental Protection Agency on a quarterly basis in accordance with the NPDWR; to prepare and distribute Consumer Confidence Reports; to provide public notification of any NPDWR violations found in its monitoring process; and to obtain a Responsible Person in Charge and Certified Operator for Skyview and Windmill. In addition, the defendant must pay a total civil penalty of Twenty Thousand Dollars ($20,000.00)

The Department of Justice will receive for a period of thirty (30) days from the date of this publication comments relating to the Consent Decree. Comments should be addressed to the Assistant Attorney General, Environment and Natural Resources Division, and either mailed to pubcomment-ees.enrd@usdoj.gov or mailed to P.O. Box 7611, U.S. Department of Justice, Washington, DC 20044-7611, and should refer to United States v.Evenhouse Enterprises, Inc, D.J. Ref. 90-5-1-1-09479.

The Consent Decree may be examined at the Office of the United States Attorney, 211 Fulton Street, Suite 400, Peoria, Illinois 61614 and at U.S. EPA Region V, Office of Regional Counsel, 77 West Jackson Boulevard, Chicago, Illinois. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $17.25 for $.25 per page reproduction costs payable to the U.S. Treasury or, if by e-mail or fax, forward a check in that amount to the Consent Decree Library at the stated address.

Maureen Katz,
Assistant Section Chief, Environmental Enforcement Section, Environment and Natural Resources Division.

[FR Doc. 2010-5653 Filed 3-15-10; 8:45 am]

BILLING CODE 4410-15-P